DEPARTMENT OF THE INTERIOR

Bureau of Land Management

[NV-060-1990]

Notice of Availability of the Draft Environmental Impact Statement for a Proposed Expansion of Existing Gold Mining/Processing Operations in Lander and Eureka Counties, NV

AGENCY: Bureau of Land Management, Interior.

Cooperating Agency: Nevada Department of Wildlife.

ACTION: Notice of Availability.

SUMMARY: In accordance with section 102(2)(c) of the National Environmental Policy Act of 1969, 43 CFR Part 3809, and the Council on Environmental Quality Regulations found at 40 CFR 1500-1508, the Bureau of Land Management (BLM) Battle Mountain Field Office has prepared a Draft Environmental Impact Statement (DEIS) on the Cortez Gold Mines' (CGM) proposed Cortez Hills Expansion Project, which is a proposed amendment to the Pipeline/South Pipeline Plan of Operations. The DEIS analyzes the environmental effects of the Proposed Action and alternatives, including the No Action Alternative.

DATES: The DEIS is available for public comment for 60 days starting on October 5, 2007, the date the Environmental Protection Agency publishes its Notice of Availability (NOA) in the Federal Register. To provide the public with an opportunity to review the proposal and project information, the BLM will host public meetings in Crescent Valley and Battle Mountain, Nevada. The BLM will notify the public of the meeting dates, times, and locations at least 15 days prior to the meetings. Announcements of the public meeting will be made by news release to the media, individual letter mailings, and posting on the BLM Web site: http://www.blm.gov/nv/st/en/fo/battle_mountain_field.html.

Comments, including names and street addresses, will be available for public review at the address below during regular business hours, 7:30 a.m. to 4:30 p.m., Monday through Friday, except holidays, and will be published as part of the Final EIS. Before including your address, phone number, e-mail address or other personal identifying information in your comment, be advised that your entire comment and personal identifying information may be made publicly available at any time. While you can ask us in your comment to withhold from public review your personal identifying information, we cannot guarantee that we will be able to do so.

ADDRESSES: Written comments should be addressed to the Bureau of Land Management, ATTN: Stephen Drummond, Battle Mountain Field Office, 50 Bastian Road, Battle Mountain, NV 89820.

FOR FURTHER INFORMATION CONTACT: Stephen Drummond, 775-635-4000.

SUPPLEMENTARY INFORMATION: CGM, on behalf of Cortez Joint Venture, proposes to expand its Pipeline/South Pipeline Project, an existing open-pit gold mining and processing operation. The Pipeline/South Pipeline Project is located in north-central Nevada approximately 31 miles south of Beowawe in Lander County.

The proposed Cortez Hills Expansion Project (Project) is located in:

Mount Diablo Meridian, Nevada

T. 27 N., R. 48 E.;

T. 27 N., R. 47 E.;

T. 27 N., R. 46 E.;

T. 26 N., R. 47 E.;

T. 26 N., R. 48 E.;

T. 28 N., R. 46 E.; and

T. 28 N., R. 47 E. in Lander and Eureka counties.

The Proposed Action would require new surface disturbance of 6,792 acres, including 6,571 acres of public land administered by the BLM Battle Mountain Field Office and 221 acres of private land owned by CGM. Existing CGM mining and processing facilities are located in three main areas in the Cortez Gold Mines Operations Area. These areas are referred to as the Pipeline Complex, Cortez Complex and Gold Acres Complex . The existing and proposed disturbance acreages for the Project would total 16,231 acres. The Proposed Action would include development of new mining facilities in the proposed Cortez Hills Complex, including development of a new open pit, underground mining, three new waste rock facilities, new heap leach pad, construction of a 12-mile conveyor system, modification or construction of related roads and ancillary facilities, and a new groundwater dewatering system to include in pit, perimeter, and underground facilities. The Proposed Action also would include continued use of existing facilities in the Pipeline Complex, Cortez Complex and Gold Acres Complex, as well as expansion of existing facilities (pits and waste rock facilities) in the Pipeline Complex and Cortez Complex. CGM proposes to mine the ore bodies associated with the Cortez and Cortez Hills complexes concurrently with their existing Pipeline/South Pipeline ore bodies. The majority of the high grade ore mined under the Cortez Hills Expansion Project would be processed at the existing Pipeline and/or Cortez mills. The proposed Project would expand existing tailings facilities at both the Pipeline and Cortez complexes. A lesser quantity of refractory ore would be sold to an off-site processing facility. The primary method of processing low-grade ore would be heap leaching.

The DEIS addresses concerns identified by the BLM and other agencies, as well as comments raised during the public scoping period in 2005. Issues analyzed in the DEIS include: Air quality, cultural resources, water quality, environmental justice, floodplains, hazardous materials and solid waste, invasive, and/or non-native species, migratory birds, Native American religious concerns, special status species, wetlands and riparian zones, and wilderness characteristics. Construction and operation of the proposed Cortez Hills Expansion Project is projected to begin in 2008. The life of the mine would include approximately 10 years of active mining and concurrent reclamation as areas become available, as well as an additional three years for ongoing ore processing, final reclamation, and closure.

A range of alternatives (including alternate waste rock facility and heap leach pad locations, underground mining only, and the No Action Alternative) has been developed and analyzed to address the concerns and issues that were identified. Other alternatives under consideration and the rationale for their elimination from detailed analysis also are discussed. Mitigation measures have been identified to minimize potential environmental impacts and to assure that the proposed Project would not result in undue or unnecessary degradation of public lands. In addition, the DEIS includes an analysis of cumulative impacts, including a comprehensive evaluation of potential impacts to Native American religious concerns.

Dated: August 20, 2007.
Gerald M. Smith,
Battle Mountain Field Office Manager.

[FR Doc. E7-19696 Filed 10-4-07; 8:45 am]

BILLING CODE 4310-HC-P